DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans, that are final. The actions relate to the Mount Vernon Avenue Bridge Project, which would replace the existing Mount Vernon Avenue Bridge (Bridge Number 54C-066) over the Burlington Northern Santa Fe (BNSF) rail yard in the City of San Bernardino, San Bernardino County, California. Those actions grant approvals for the project.

DATES: By this notice, the FHWA, on behalf of Caltrans, is advising the public of final agency actions subject to 23 U.S.C. 139(l)(1). A claim seeking judicial review of the Federal agency actions on the Off the Highway System Project will be barred unless the claim is filed on or BEFORE May 10, 2019. If the Federal law that authorizes judicial review of a claim provides a time period of less than 150 days for filing such claim, then that shorter time period applies.

FOR FURTHER INFORMATION CONTACT: For Caltrans: Aaron Burton, Senior Environmental Planner, Local Assistance-Environmental Support, California Department of Transportation District 8, 464 West Fourth Street, 6th floor, MS 760, San Bernardino, CA 92401 during regular office hours from 8:00 a.m. to 5:00 p.m., Telephone number: (909) 383-2841, email: aaron.burton@dot.ca.gov. For FHWA, contact Larry Vinzant at (916) 498-5040 or email larry.vinzant@dot.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following Mount Vernon Avenue Bridge Project in the State of California. The Mount Vernon Avenue Bridge Project proposes to replace the existing Mount Vernon Avenue Bridge (Bridge Number 54C-066) over the BNSF rail yard in the City of San Bernardino, San Bernardino County, California. The proposed project covers a distance of approximately 0.5 mile. The purpose of the project is to provide a bridge that is structurally safe and meets current seismic, design, and roadway standards. A National Environmental Policy Act (NEPA) Finding of No Significant Impact (FONSI) was adopted for the project in June 2011. Since the NEPA document was adopted, it has been noted that additional project improvements and refinements are needed that were not included in the adopted NEPA document. A Supplemental Environmental Assessment (EA) was prepared to focus on impacts that would result from proposed changes to the approved project since adoption of the FONSI in 2011.

Mount Vernon Avenue is considered a Major Arterial per the City of San Bernardino General Plan. Thus, it is a connecting link between economic centers both within the City and the region as a whole. Mount Vernon Avenue Bridge provides an additional access route to rail and mass transit (Metrolink) facilities in the immediate area that also interface with port and airport facilities. The bridge is currently closed to all commercial traffic, including trucks and buses. Any permanent long-term closure of the Mount Vernon Avenue Bridge would remove an important connection linking communities north and south of the BNSF railroad. Implementation of the Mount Vernon Avenue Bridge Project would replace the existing bridge to improve seismic performance, provide standard vertical clearance over the rail tracks, and comply with American Association of State Highway and Transportation Officials (AASHTO) roadway cross section standards.

The actions by the Federal agencies, and the laws under which such actions were taken, are described in the Supplemental EA for the project, approved on May 22, 2018 and the FONSI issued on October 9, 2018 and in other documents in the Caltrans' project records. The EA, FONSI and other project records are available by contacting Caltrans at the address provided above. The Caltrans EA and FONSI can be viewed and downloaded from the project website at http://gosbcta.com/plans-projects/projects/mt-vernon/envi-docs/2018-eval/Mt_Vernon_EA_Final_52218.pdf.

This notice applies to all Federal agency decisions as of the issuance date of this notice and all laws under which such actions were taken, including but not limited to:

1. National Environmental Policy Act (NEPA) [42 U.S.C. 4321-4351]; Federal-Aid Highway Act [23 U.S.C. 109 and 23 U.S.C. 128].

2. Clean Air Act [42 U.S.C. 7401-7671(q)].

3. Section 4(f) of the U.S. Department of Transportation Act of 1966 [49 U.S.C. 303].

4. Endangered Species Act [16 U.S.C. 1531-1544 and Section 1536], Fish and Wildlife Coordination Act [16 U.S.C. 661-667(d)], Migratory Bird Treaty Act [16 U.S.C. 703-712].

5. Section 106 of the National Historic Preservation Act of 1966, as amended [16 U.S.C. 470(f) et seq.]; Archeological Resources Protection Act of 1977 [16 U.S.C. 470(aa)-11]; Archeological and Historic Preservation Act [16 U.S.C. 469 469(c)]; Native American Grave Protection and Repatriation Act (NAGPRA) [25 U.S.C. 3001-3013].

6. Clean Water Act 33 U.S.C. 1251-1387.

7. Farmland Protection Policy Act [7 U.S.C. 4201-4209 and its regulations].

8. E.O. 11990 Protection of Wetlands; E.O. 11988 Floodplain Management; E.O. 12898 Federal Actions to Address Environmental Justice in Minority Populations and Low-Income Populations; E.O. 11593 Protection and Enhancement of Cultural Resources; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Shawn Oliver,
Environmental Team Leader, Federal Highway Administration, Sacramento, California.

[FR Doc. 2018-26759 Filed 12-10-18; 8:45 am]

BILLING CODE 4910-RY-P